DEPARTMENT OF LABOR

Employment and Training Administration

Agency Information Collection Activities; Comment Request; H-2A Sheepherder Recordkeeping Requirement

AGENCY: Employment and Training Administration, Labor.

ACTION: Notice.

SUMMARY: The Department of Labor's (DOL or Department) Employment and Training Administration (ETA) is soliciting comments concerning a proposed extension for the authority to conduct the information collection request (ICR), titled “H-2A Sheepherder Recordkeeping Requirement.” This action seeks an extension of the information collection without changes. This comment request is part of continuing Departmental efforts to reduce paperwork and respondent burden in accordance with the Paperwork Reduction Act of 1995 (PRA).

DATES: Consideration will be given to all written comments received by January 14, 2022.

ADDRESSES: A copy of this ICR with applicable supporting documentation, including a description of the likely respondents, proposed frequency of response, and estimated total burden, may be obtained for free by contacting Brian Pasternak, Administrator, Office of Foreign Labor Certification, by telephone at 202-693-8200 (this is not a toll-free number), TTY 1-877-889-5627 (this is not a toll-free number), or by email at ETA.OFLC.Forms@dol.gov.

Submit written comments about, or requests for a copy of, this ICR by email at ETA.OFLC.Forms@dol.gov.

FOR FURTHER INFORMATION CONTACT: Brian Pasternak, Administrator, Office of Foreign Labor Certification, by telephone at 202-693-8200 (this is not a toll-free number) or by email at ETA.OFLC.Forms@dol.gov.

Authority: 44 U.S.C. 3506(c)(2)(A).

SUPPLEMENTARY INFORMATION: DOL, in its continuing efforts to reduce paperwork and respondent burden, conducts a pre-clearance consultation program to provide the general public and Federal agencies an opportunity to comment on proposed and/or continuing collections of information before submitting them to the Office of Management and Budget (OMB) for final approval. This program ensures the public provides all necessary data in the desired format, the reporting burden (time and financial resources) is minimized, collection instruments are clearly understood, and the impact of collection requirements can be properly assessed.

Under the foreign labor certification programs administered by ETA, the H-2A temporary labor certification program enables employers to bring nonimmigrant foreign workers to the U.S. to perform agricultural work of a temporary or seasonal nature, as defined in 8 U.S.C. 1101(a)(15)(H)(ii)(a). The H-2A program also permits employers to employ foreign workers in herding or the production of livestock on the range.

In order to meet its statutory responsibilities under the Immigration and Nationality Act, the Department must request information from employers seeking to hire and import foreign labor. The Department uses the information collected to determine whether employers engaged in herding or production of livestock on the range, including the care, husbandry, and herding of sheep, cattle, goats, horses, and other domestic hooved animals, have met their obligations under Federal law. See 20 CFR 655.200, et seq. This ICR pertains to program obligations for employers seeking to hire foreign temporary agricultural workers for job opportunities in herding or production of livestock on the range. Among the issues addressed through this ICR are timekeeping requirements of employers. See 20 CFR 655.210(f). In order to determine eligibility for the program based on the daily amount of work performed on the range, this ICR requires employers to note whether employees spend days on the ranch or on the range. This ICR also requires employers to record the reason for the worker's absence where the employer chooses to prorate the required wage. See 20 CFR 655.210(f)(2), (g)(2). The information retained and recorded will enable the employer and the Department, if necessary, to determine whether the worker performed work on the range at least fifty percent of the days during the contract period.

This information collection is subject to the PRA. A Federal agency generally cannot conduct or sponsor a collection of information, and the public is generally not required to respond to an information collection unless OMB, under the PRA, approves it and the collection tool displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0519.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Action: Extension Without Changes.

Title of Collection: H-2A Sheepherder Recordkeeping Requirement.

OMB Control Number: 1205-0519.

Affected Public: Private Sector.

Form(s): None.

Total Estimated Number of Annual Respondents: 968.

Frequency: Weekly (52 weeks).

Total Estimated Annual Responses: 50,336.

Average Time per Response: 6 minutes.

Total Estimated Annual Time Burden: 5,034.

Total Estimated Annual Other Costs Burden: $0.

Authority: 44 U.S.C. 3507(a)(1)(D).

Angela Hanks,
Acting Assistant Secretary for Employment and Training, Labor.

[FR Doc. 2021-24812 Filed 11-12-21; 8:45 am]

BILLING CODE 4510-FP-P